DEPARTMENT OF TRANSPORTATION

Federal Railroad Administration

[Docket Number FRA-2025-0137]

Notice of Petition for Waiver of Compliance

AGENCY: Federal Railroad Administration (FRA), Department of Transportation (DOT).

ACTION: Notice.

SUMMARY: This document provides the public notice that the Nevada State Railroad Museum, Boulder City, operating as Nevada Southern Railway (NVSV) petitioned FRA for relief from certain regulations concerning reflectorization on rail equipment.

DATES: FRA must receive comments on the petition by September 17, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Patrick Musselman, Railroad Safety Specialist, FRA Motive Power & Equipment Division, telephone: 202-834-5837, email: patrick.musselman@dot.gov.

SUPPLEMENTARY INFORMATION: Under part 211 of title 49 Code of Federal Regulations (CFR), this document provides the public notice that by letter received June 3, 2025, NVSV petitioned FRA for a waiver of compliance from certain provisions of the Federal railroad safety regulations contained at 49 CFR part 224 (Reflectorization of Rail Freight Rolling Stock). FRA assigned the petition Docket Number FRA-2025-0137.

Specifically, FRA understands that NVSV seeks relief from the reflectorization requirements for 24 pieces of equipment: 4 locomotives, 17 pieces of rolling stock, and 3 track inspection “speeders.” NVSV states that “adding reflectorization to multiple locomotives and all freight rolling stock would eliminate [their] historical authenticity,” which is demanded by NVSV's visitors and dictated by its professional standards. Further, compromising the equipment's historical authenticity would eliminate the opportunity for photo shoots including the equipment.

In support of its request, NVSV notes that it operates over only two grade crossings, which are both in low-traffic areas and are equipped with active grade crossing protection and overhead streetlights. NVSV adds that night operations, running between 5:00 p.m. and 8:00 p.m., are rare and amount to fewer than 30 trains.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by September 17, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-15613 Filed 8-15-25; 8:45 am]

BILLING CODE 4910-06-P